DEPARTMENT OF HEALTH AND HUMAN SERVICES

Food and Drug Administration

[Docket No. FDA-2009-N-0664]

Gastrointestinal Drugs Advisory Committee; Cancellation

AGENCY: Food and Drug Administration, HHS.

ACTION: Notice.

SUMMARY: The meeting of the Gastrointestinal Drugs Advisory Committee scheduled for May 20, 2009, is cancelled. This meeting was announced in the Federal Register of April 7, 2009 (74 FR 15739). The FDA's Center for Drug Evaluation and Research is continuing to review the application that was going to be discussed by the committee.

FOR FURTHER INFORMATION CONTACT: Kristine T. Khuc, Center for Drug Evaluation and Research (HFD-21), Food and Drug Administration, 5630 Fishers Lane (for express delivery, 5630 Fishers Lane, rm. 1093), Rockville, MD 20857, 301-827-7001, FAX: 301-827-6776, e-mail: Kristine.Khuc@fda.hhs.gov, or FDA Advisory Committee Information Line, 1-800-741-8138 (301-443-0572 in the Washington, DC area), code 3014512538. Please call the Information Line for up-to-date information on this meeting.

Dated: May 14, 2009.
Randall W. Lutter,
Deputy Commissioner for Policy.

[FR Doc. E9-11725 Filed 5-15-09; 4:15 pm]

BILLING CODE 4160-01-S